DEPARTMENT OF COMMERCE

Foreign-Trade Zones Board

[Docket 60, 61 and 62-2011]

Foreign-Trade Zones 140 and 78; Applications for Subzone Authority; Dow Corning Corporation, Hemlock Semiconductor Corporation and Hemlock Semiconductor, L.L.C.; Extension of Comment Periods

The comment periods for the applications for subzone authority at the Dow Corning Corporation facility in Midland, Michigan (76 FR 63282-63283, October 12, 2011), at the Hemlock Semiconductor Corporation facility in Hemlock, Michigan (76 FR 63282, October 12, 2011) and at the Hemlock Semiconductor, L.L.C. facility in Clarksville, Tennessee (76 FR 63281-63282, October 12, 2011) are being extended. A public hearing will be held on the applications, and the comment periods are being extended through the date of the public hearing. When the public hearing has been scheduled, a notice will be published with the date and time of the hearing as well as the specific date on which the comment periods will close following the hearing.

For further information, contact Elizabeth Whiteman at Elizabeth.Whiteman@trade.gov or (202) 482-0473.

Dated: December 5, 2011.
Andrew McGilvray,
Executive Secretary.

[FR Doc. 2011-31684 Filed 12-8-11; 8:45 am]

BILLING CODE 3510-DS-P